GENERAL SERVICES ADMINISTRATION

[OMB Control No. 3090-0290; Docket No. 2013-0001; Sequence No. 10]

Information Collection; System for Award Management Registration Requirements for Prime Grant Recipients

AGENCY: Office of the Integrated Award Environment, General Services Administration (GSA).

ACTION: Notice of request for comments regarding an extension to an existing OMB information collection.

SUMMARY: Under the provisions of the Paperwork Reduction Act of 1995 (44 U.S.C. Chapter 35), the Regulatory Secretariat Division will be submitting to the Office of Management and Budget (OMB) a request to review and approve a renewal of the currently approved information collection requirement regarding the pre-award registration requirements for Prime Grant Recipients. The title of the approved information collection is Central Contractor Registration Requirements for Prime Grant Recipients (OMB Control Number 3090-0290). The updated information collection title, based on the migration of the Central Contractor Registration system to the System for Award Management in late July 2012, is System for Award Management Registration Requirements for Prime Grant Recipients.

DATES: Submit comments on or before February 28, 2014.

ADDRESSES: Submit comments identified by Information Collection 3090-0290, System for Award Management Registration Requirements for Prime Grant Recipients by any of the following methods:

• Regulations.gov: http://www.regulations.gov. Submit comments via the Federal eRulemaking portal by searching “Information Collection 3090-0290, System for Award Management Registration Requirements for Prime Grant Recipients”. Select the link “Submit a Comment” that corresponds with “Information Collection 3090-0290 System for Award Management Requirements for Prime Grant Recipients”. Follow the instructions provided at the “Submit a Comment” screen. Please include your name, company name (if any), and “Information Collection 3090-0290, System for Award Management Registration Requirements for Prime Grant Recipients” on your attached document.

• Fax: 202-501-4067.

• Mail: General Services Administration, Regulatory Secretariat (MVCB), 1800 F Street NW., Washington, DC 20405. ATTN: IC 3090-0290.

Instructions: Please submit comments only and cite Information Collection 3090-0290, System for Award Management Registration Requirements for Prime Grant Recipients, in all correspondence related to this collection. All comments received will be posted without change to http://www.regulations.gov, including any personal and/or business confidential information provided.

FOR FURTHER INFORMATION CONTACT: Mr. Stephen Berry, Program Analyst, Office of the Integrated Award Environment, at telephone number 703-605-2984; or via email stephen.berry@gsa.gov.

SUPPLEMENTARY INFORMATION:

A. Purpose

This information collection requires information necessary for prime applicants and recipients, excepting individuals, of Federal financial assistance to register in the System for Award Management (SAM) and maintain an active SAM registration with current information at all times during which they have an active Federal award or an application or plan under consideration by an agency pursuant to 2 CFR Subtitle A, Chapter I, and Part 25 (75 FR 5672). This facilitates prime awardee reporting of sub-award and executive compensation data pursuant to the Federal Funding Accountability and Transparency Act (Pub. L. 109-282, as amended by section 6202(a) of Pub. L. 110-252). This information collection requires that all prime grant awardees, subject to reporting under the Transparency Act register and maintain their registration in SAM.

B. Public Comments

Public comments are particularly invited on: Whether this collection of information is necessary for the proper performance of functions of the System for Award Management Registration Requirements for Prime Grant Recipients, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

C. Annual Reporting Burden

Respondents: 204,726.

Responses per Respondent: 1.

Total annual responses: 204,726.

Hours per Response: 2.

Total Burden Hours: 409,452.

Obtaining Copies of Proposals: Requesters may obtain a copy of the information collection documents from the General Services Administration, Regulatory Secretariat (MVCB), 1800 F Street NW., Washington, DC 20405, telephone 202-501-4755. Please cite OMB Control No. 3090-0290, System for Award Management Registration Requirements for Prime Grant Recipients, in all correspondence.

Dated: December 18, 2013.
Casey Coleman,
Chief Information Officer.

[FR Doc. 2013-31170 Filed 12-27-13; 8:45 am]

BILLING CODE 6820-WY-P